NUCLEAR REGULATORY COMMISSION

[Docket No. 50-244]

Rochester Gas and Electric Corporation, R. E. Ginna Nuclear Power Plant; Notice of Issuance of Renewed Facility Operating License No. DPR-18 for an Additional 20-Year Period

Notice is hereby given that the U.S. Nuclear Regulatory Commission (the Commission) has issued Renewed Facility Operating License No. DPR-18 to Rochester Gas and Electric Corporation (licensee), the operator of the R. E. Ginna Nuclear Power Plant (Ginna). Renewed Facility Operating License No. DPR-18 authorizes operation of Ginna by the licensee at reactor core power levels not in excess of 1520 megawatts thermal (490 megawatts electric) in accordance with the provisions of the Ginna renewed license and its Technical Specifications.

The Ginna plant is a pressurized, light-water-moderated and cooled, nuclear reactor located in Wayne County, New York.

The application for the renewed license complied with the standards and requirements of the Atomic Energy Act of 1954, as amended (the Act), and the Commission's regulations. As required by the Act and the Commission's regulations in 10 CFR Chapter 1, the Commission has made appropriate findings, which are set forth in each license. Prior public notice of the action involving the proposed issuance of the renewed license and of an opportunity for a hearing regarding the proposed issuance of the renewed license was published in the Federal Register on September 30, 2002 (67 FR 61354).

For further details with respect to this action, see (1) the Rochester Gas and Electric Corporation's license renewal application for R. E. Ginna Nuclear Power Plant dated July 30, 2002, as supplemented by letters dated through January 9, 2004; (2) the Commission's safety evaluation report, dated May 2004 (NUREG-1786); (3) the licensee's updated safety analysis report; and (4) the Commission's final environmental impact statements (NUREG-1437, Supplement 14, for the R. E. Ginna Nuclear Power Plant, dated January, 2004). These documents are available at the NRC's Public Document Room, One White Flint North, 11555 Rockville Pike, Rockville, Maryland 20852, and can be viewed from the NRC Public Electronic Reading Room at http://www.nrc.gov/reading-rm/adams.html.

Copies of Renewed Facility Operating License No. DPR-18, may be obtained by writing to the U.S. Nuclear Regulatory Commission, Washington, DC 20555-0001, Attention: Director, Division of Regulatory Improvement Programs. Copies of the R. E. Ginna Nuclear Power Plant Safety Evaluation Report (NUREG-1786) and the final environmental impact statements (NUREG-1437, Supplement 14) may be purchased from the National Technical Information Service, U.S. Department of Commerce, Springfield, Virginia 22161 (http://www.ntis.gov), (703) 605-6000, or Attention: Superintendent of Documents, U.S. Government Printing Office, PO Box 371954 Pittsburgh, PA. 15250-7954 (http://www.gpoaccess.gov), (202) 512-1800. All orders should clearly identify the NRC publication number and the requestor's Government Printing Office deposit account number or VISA or MasterCard number and expiration date.

Dated at Rockville, Maryland, this 19th day of May, 2004.
For the Nuclear Regulatory Commission.
Steven West,
Acting Program Director, License Renewal and Environmental Impacts Program, Division of Regulatory Improvement Programs, Office of Nuclear Reactor Regulation.

[FR Doc. 04-12212 Filed 5-28-04; 8:45 am]

BILLING CODE 7590-01-P